DEPARTMENT OF TRANSPORTATION

Federal Aviation Administration

Notice of Intent of Waiver With Respect to Land; Rickenbacker International Airport, Columbus, Ohio

AGENCY: Federal Aviation Administration (FAA), DOT.

ACTION: Notice.

SUMMARY: The FAA is considering a proposal to change approximately 328 acres of airport land from aeronautical use to non-aeronautical use and to authorize the lease and ultimate sale of airport property located at Rickenbacker International Airport, Columbus, Ohio. The aforementioned land is not needed for aeronautical use. The property is located southeast of the airfield and currently consists of vacant land, paved roadways, fencing and utilities. The land is proposed to be used to expand the Rickenbacker Global Logistics Park (RGLP) and all activities necessary to prepare the site as a Cargo Campus for development capable of accommodating growth in bulk warehouse/distribution facilities.

DATES: Comments must be received on or before March 3, 2022.

ADDRESSES: Documents are available for review by appointment at the FAA Detroit Airports District Office, Mark Grennell, Program Manager, 11677 South Wayne Road, Suite 107, Romulus, MI 48174, Telephone: (734) 229-2933/Fax: (734) 229-2950 and the Columbus Regional Airport Authority, Mark Kelby, Airport Planner, 4600 International Gateway, Columbus, OH 43219, (614) 239-5014. Written comments on the Sponsor's request must be delivered or mailed to: Mark Grennell, Program Manager, Federal Aviation Administration, Detroit Airports District Office, 11677 South Wayne Road, Suite 107, Romulus, MI 48174, Telephone Number: (734) 229-2933/Fax: (734) 229-2950.

FOR FURTHER INFORMATION CONTACT: Mark Grennell, Program Manager, Federal Aviation Administration, Detroit Airports District Office, 11677 South Wayne Road, Suite 107, Romulus, MI 48174. Telephone Number: (734) 229-2933/Fax: (734) 229-2950.

SUPPLEMENTARY INFORMATION: In accordance with section 47107(h) of Title 49, United States Code, this notice is required to be published in the Federal Register 30 days before modifying the land-use assurance that requires the property to be used for an aeronautical purpose.

The land was originally transferred from the United States of America by quitclaim deeds to the Rickenbacker Port Authority on March 30, 1984 and May 11, 1999, under the Surplus Property Act of 1944. On December 31, 2002, the Rickenbacker Port Authority transferred ownership of the airport to the Franklin County, Ohio Board of Commissioners. On the same day, the Franklin County, Ohio Board of Commissioners transferred ownership to the Columbus Municipal Airport Authority. The Columbus Municipal Airport Authority was re-structured to form the Columbus Regional Airport Authority on January 28, 2003. The land currently consists of vacant land, paved roadways, fencing, utilities, a small arms outdoor firing range and a former munitions site. The proposed future use of the land is for a cargo campus that will be capable of accommodating several industrial buildings ranging in size from 500,000 to 1,000,000 square feet. The Columbus Regional Airport Authority will receive fair market value for the initial lease and ultimate sale of this land.

The disposition of proceeds from the sale of the airport property will be in accordance with FAA's Policy and Procedures Concerning the Use of Airport Revenue, published in the Federal Register on February 16, 1999 (64 FR 7696).

This notice announces that the FAA is considering the release of the subject airport property at the Rickenbacker International Airport, Columbus, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Description of 328.672 Acres

Situated in the State of Ohio, Counties of Franklin and Pickaway, Township of Madison, lying in Sections 7 and 18, Township 10, Range 21 of the Congress Lands, and being part of 2,995.065 acre (Tract 1) as conveyed to Columbus Regional Airport Authority by deed of record in Instrument Number 200301020000768, records of the Recorder's Office, Franklin County, Ohio, also being a deed of record in Official Record 514, Page 2561, records of the Recorder's Office, Pickaway County, Ohio, and being more particularly described as follows:

Beginning at an angle point in the 2,995.065 acre tract at the northeasterly corner of Section 18 on the line between Franklin and Pickaway Counties;

Thence the following seven (7) courses and distances along the lines of said 2,995.065 acre (Tract 1):

1. South 03°55′27″ West, a distance of 2,644.31 feet, to a point;

2. North 86°24′01″ West, a distance of 437.75 feet, to a point;

3. North 06°36′41″ West, a distance of 402.20 feet, to a point;

4. North 01°05′17″ East, a distance of 750.00 feet, to a point;

5. North 86°24′43″ West, a distance of 550.00 feet, to a point;

6. South 03°35′17″ West, a distance of 1,145.00 feet, to a point;

7. North 86°24′01″ West, a distance of 2,156.03 feet, to a point;

Thence the following three (3) courses and distances across the said 2,995.065 acre tract:

1. North 44°30′28″ West, a distance of 2,197.96 feet, to a point;

2. North 45°29′32″ East, a distance of 4,510.96 feet, to a point;

3. South 44°25′27″ East, a distance of 789.72 feet, to a point on an easterly line of said 299.065 acre tract;

Thence the following four (4) courses and distances along the lines of said 2,995.065 acre (Tract 1):

1. South 03°53′50″ West, a distance of 516.90 feet, to a point;

2. South 43°04′26″ East, a distance of 1,208.90 feet, to a point;

3. South 23°57′33″ West, a distance of 325.08 feet, to a point;

4. South 86°11′07″ East, a distance of 536.00 feet, along the to the Point of Beginning, containing 328.672 acres, more or less, of which 88.312 acres lie in Franklin County and 240.360 acres lie in Pickaway County.

The bearings in the above description are based on the bearing of North 86°24′01″ West, for the southerly line of the 2,995.065 Acre (Tract 1) conveyed to Columbus Regional Airport Authority.

Issued in Romulus, Michigan, on January 27, 2022.
Stephanie Swann,
Acting Manager, Detroit Airports District Office, FAA, Great Lakes Region.

[FR Doc. 2022-02023 Filed 1-31-22; 8:45 am]

BILLING CODE 4910-13-P